DEPARTMENT OF HOUSING AND URBAN DEVELOPMENT

[Docket No. FR-6534-N-01]

Notice of Regulatory Waiver Requests Granted for the First Quarter of Calendar Year 2025

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2025 and ending on March 31, 2025.

FOR FURTHER INFORMATION CONTACT: For general information about this notice, contact Amanda Wahlig, Acting Associate General Counsel for Legislation and Regulations, Department of Housing and Urban Development, 451 7th Street SW, Room 10282, Washington, DC 20410-0500, telephone 202-708-3055 (this is not a toll-free number). HUD welcomes and is prepared to receive calls from individuals who are deaf or hard of hearing, as well as individuals with speech or communication disabilities.

To learn more about how to make an accessible telephone call, please visit: https://www.fcc.gov/consumers/guides/telecommunications-relay-service-trs.

For information concerning a particular waiver that was granted and for which public notice is provided in this document, contact the person whose name and address follow the description of the waiver granted in the accompanying list of waivers that have been granted in the first quarter of calendar year 2025.

SUPPLEMENTARY INFORMATION:

Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2025 through March 31, 2025. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2025) before the next report is published (the second quarter of calendar year 2025), HUD will include any additional waivers granted for the first quarter in the next report.

Accordingly, information about approved waiver requests pertaining to HUD regulations is provided in the Appendix that follows this notice.

Scott Knittle,
Principal Deputy General Counsel.

APPENDIX

Listing of Waivers of Regulatory Requirements Granted by Offices of the Department of Housing and Urban Development January 1, 2025 Through March 31, 2025

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.252(d)(1).

Project/Activity: Contra Costa County, California requested that HUD waive 24 CFR 92.252(d)(1) to allow the use of the utility allowance established by the local public housing agency (PHA) for the Mayfair Affordable Housing project, a HOME-assisted rental project.

Nature of Requirement: The HOME regulations at 24 CFR 92.252(d)(1) set requirements for participating jurisdictions to establish utility allowances in HOME-assisted rental projects and do not include the utility allowance established by the local public housing agency as an option. This conflicts with the Project Based Voucher Program regulations, which require use of the public housing agency's utility allowance.

Granted by: David C. Woll Jr, Principal Deputy Assistant Secretary for Community Planning and Development.

Date Granted: March 12, 2025.

Reason Waived: The HOME requirements for establishing utility allowances conflict with Project Based Voucher requirements. It is not possible to use two different utility allowances to set the rent for a single unit and it is administratively burdensome to require a project owner to establish and implement different utility allowances for HOME-assisted and non-HOME-assisted units in a project. A waiver is required to permit the project to receive both funding sources.

Contact: Peter Huber, Acting Director, Office of Affordable Housing Programs, Office of Community Planning and Development, Department of Housing and Urban Development, 451 7th Street SW, Room 7160, Washington, DC 20410, telephone (202) 402-3941.

• Regulation: 24 CFR 92.252(d)(1).

Project/Activity: Mobile County, Alabama requested that HUD waive 24 CFR 92.252(d)(1) to allow the use of the utility allowance established by the local public housing agency (PHA) for the Creel Road project, a HOME-assisted rental project.

Nature of Requirement: The HOME regulations at 24 CFR 92.252(d)(1) set requirements for participating jurisdictions to establish utility allowances in HOME-assisted rental projects and do not include the utility allowance established by the local public housing agency as an option. This conflicts with the Project Based Voucher Program regulations, which require use of the public housing agency's utility allowance.

Granted by: David C. Woll Jr., Principal Deputy Assistant Secretary for Community Planning and Development.

Date Granted: March 12, 2025.

Reason Waived: The HOME requirements for establishing utility allowances conflict with Project Based Voucher program requirements. It is not possible to use two different utility allowances to set the rent for a single unit, and it is an administrative burden to require a project owner to establish and implement different utility allowances for HOME-assisted and non-HOME-assisted units in a project. A waiver is required to permit the project to receive both funding sources.

Contact: Peter Huber, Acting Director, Office of Affordable Housing Programs, Office of Community Planning and Development, Department of Housing and Urban Development, 451 7th Street SW, Room 7160, Washington, DC 20410, telephone (202) 402-3941.

Waiver and Alternative Requirement on the Use of Standardized Area Median Income

• Regulation: 42 U.S.C. 5302(a)(20)(A) (Waiver and Alternative requirement on the use of Standardized Area Median Income for Disasters Occurring in 2021/2022) for the Community Development Block Grant disaster recovery (CDBG-DR) Notices published in the Federal Register on May 24, 2022 at 87 FR 31636 (the “May 2022 notice”), January 18, 2023 at 88 FR 3198 (the “January 2023 notice”), and May 18, 2023 at 88 FR 32046 (the “May 2023 notice”).

Project/Activity: CDBG-DR funds allocated to the Commonwealth of Kentucky pursuant to the Disaster Relief Supplemental Appropriations Act, 2022, and the Continuing Appropriations Act, 2023 (the “Appropriations Acts”).

Nature of Requirement: HUD allocated CDBG-DR funds to the Commonwealth of Kentucky for disasters occurring in 2021 and 2022 in the 2022 notice, January 2023 notice, and the May 2023 notice. Each of these Federal Register notices included the Consolidated Notice as Appendix B and made the Consolidated Notice applicable to these allocations. The Commonwealth must use its CDBG-DR funds to meet national objectives, including national objectives which provide benefit to low- and moderate-income persons. As defined in 42 U.S.C. 5302(a)(20)(A), the terms “persons of low and moderate income” and “low- and moderate-income persons” mean families and individuals whose incomes do not exceed 80 percent of the median income of the area involved, as determined by the Secretary with adjustments for smaller and larger families. The Department received a request from the Commonwealth to modify requirements and coordinate recovery efforts for CDBG-DR funds appropriated under Public Laws 117-43 and 117-180, through use of a standardized area median income for purposes of meeting the low- and moderate-income national objective.

Granted By: David C. Woll, Principal Deputy Assistant Secretary.

Date Granted: March 18, 2025.

Reason Waived: After reviewing the grantee's request, the Department determined there was good cause to broaden 42 U.S.C. 5302(a)(20)(A) to the extent necessary to enable the Commonwealth of Kentucky to make LMI determinations based on statewide median income instead of otherwise applicable AMI when county AMI is below statewide median income data. This waiver allowed the Commonwealth of Kentucky to standardize the median income for the counties impacted by 2021 Severe Storms, Flooding, Landslide/Mudslides, Straight-line Winds, and Tornadoes and 2022 Flooding that have an AMI below the statewide median income. This waiver and alternative requirement was provided for the purpose of assisting the populations who are in need of recovery assistance in each of the MID areas identified by the Department and the Commonwealth for disasters occurring in 2021 and 2022.

Applicability: This waiver is applicable to the CDBG-DR funds awarded for major disasters occurring in 2020 and 2021 under the Appropriations Acts for the Commonwealth of Kentucky only. HUD broadened 42 U.S.C. 5302(a)(20)(A) to the extent necessary to enable the Commonwealth of Kentucky to make LMI determinations based on statewide median income instead of otherwise applicable AMI when county AMI is below statewide median income data (as published by the Department annually with adjustments for smaller and larger families). In areas where this waiver and alternative requirement permits the Commonwealth to use statewide median income for LMI determinations, it may also use statewide median income data (as published by HUD annually with adjustments for smaller and larger families) to calculate 120 percent of statewide median income, and to use 120 percent of statewide median income as a substitute for 120 percent of AMI. However, if those counties have an AMI above the statewide median income, eligibility will continue to be defined by the county's higher AMI standard. In granting this flexibility to the Commonwealth of Kentucky, HUD will not consider any request to lower the Commonwealth's requirement in regard to the overall percentage of funds that must be used for activities that benefit low- and moderate-income persons for its CDBG-DR funds for disasters occurring in 2021 and 2022.

Contact: Tennille S. Parker, Director, Office of Disaster Recovery, Office of Community Planning and Development, Department of Housing and Urban Development, 451 7th Street SW, Room 7282, Washington, DC 20410, telephone (202) 708-3587.

• Regulation: Section 104(e)(2) of the HCDA and 24 CFR 570.494(b)(1).

Project Activity: Due to damage caused by Hurricanes Helene and Milton, the State of Florida has requested a waiver to the timely distribution of CDBG funds requirement for FY2023 CDBG funds.

Nature of the Requirement: A state's distribution of CDBG funds is timely if all the state's annual grant (excluding state administration and other allowable adjustments) has been obligated and announced to units of general local government within 15 months of the state signing its grant agreement with HUD.

Granted By: David C. Woll, Jr., Principal Deputy Assistant Secretary for Community Planning and Development.

Date Granted: March 10, 2025.

Reason Waived: HUD has made certain waivers available to recipients of Community Planning and Development grant programs impacted by Presidentially declared major disasters through the Availability of Waivers of Community Planning and Development Grant Program and Consolidated Plan Requirements to Facilitate Recovery from Presidentially Declared Major Disasters memorandum, dated July 1, 2024. In accordance with the memorandum, the State additionally requested that HUD waive the State CDBG timely distribution of funds requirement to allow the FY2023 award's timely distribution deadline to coincide with the FY2024 award's timely distribution deadline of December 30, 2025. This flexibility would support disaster recovery activities to respond to Hurricanes Helene and Milton.

Contact: Duncan Yetman, Acting Director, State and Small Cities Division, Office of Community Planning and Development, Department of Housing and Urban Development. 451 7th Street SW, Room 7282, Washington, DC 20410, telephone (202) 402-7178.

Emergency Solutions Grants Program

• Regulation: 24 CFR 576.106(d)(1).

Project/Activity: HUD granted a waiver of 24 CFR 576.106(d)(1) to the New York State Office of Temporary and Disability Assistance (OTDA) to allow its subrecipients to use Emergency Solutions Grants (ESG) Program Rapid Re-housing (RRH) and Homelessness Prevention (HP) funds for housing units with rents that exceed the HUD-established Fair Market Rent (FMR) requirements in the following counties: Albany, Bronx, Cattaraugus, Cayuga, Chautauqua, Clinton, Columbia, Delaware, Dutchess, Essex, Franklin, Fulton, Greene, Kings, Lewis, Monroe, Montgomery, New York, Onondaga, Ontario, Orange, Otsego, Putnam, Queens, Rensselaer, Richmond, Rockland, Saratoga, Schenectady, Schuyler, St. Lawrence, Sullivan, Tompkins, and Ulster. The waiver permitted OTDA to allow its subrecipients to use ESG Program RRH and HP funds for housing units in Chemung, Livingston, Madison, and Washington Counties with rents that exceed the HUD-established FMR requirements except for one-bedroom units located in these areas, because average rent amounts are either below FMR or very similar to FMR amounts for one-bedroom units in the aforementioned jurisdictions. The waiver also permitted OTDA to allow its subrecipients to use ESG Program RRH and HP funds for housing units in Warren County with rents that exceed the HUD-established FMR requirements except for two-bedroom units, because average rent amounts in this area are either below FMR or very similar to FMR amounts for two-bedroom units in Warren County.

OTDA and its subrecipients must still comply with the rent reasonableness requirements in 24 CFR 576.106(d)(1). Subject to funding availability and unless otherwise provided by HUD, the recipient may also apply this waiver to a later fiscal year ESG grant under the same conditions that are stated above for the recipient's current ESG grants.

In addition to providing waiver flexibilities to OTDA, the memorandum provides a simplified notification process for ESG recipients in New York State to use the waiver flexibilities to expedite the delivery of ESG rental assistance.

Nature of Requirement: 24 CFR 576.106(d)(1) provides that rental assistance cannot be provided unless the total rent is equal to or less than the FMR established by HUD, as provided under 24 CFR part 888, and complies with HUD's standard of rent reasonableness, as established under 24 CFR 982.507.

Granted By: David C. Woll, Jr., Principal Deputy Assistant Secretary for Community Planning and Development.

Date Granted: February 2, 2025.

Reason Waived: Because ESG rental assistance is time-limited, and program participants must find other rental assistance or pay the full rent to stay housed at the program's end, HUD's FMR-based restriction in 24 CFR 576.106(d)(1) serves dually as safeguard and benchmark for successful housing placements. In some cases, though, allowing rental assistance only in units that rent at or below HUD's FMR can impede rather than promote the efficient use of ESG assistance. In this case, HUD has received information showing the current FMR is not an accurate reflection of the rental market in affected areas identified by the recipient. The state reports that average rents are consistently higher than FMR limits for the affected areas. OTDA provided data showing that, on average, communities report actual rents about 19.5 percent higher than FY 2025 FMRs for one-bedroom units and about 20.5 percent higher than FY 2025 FMRs for two-bedroom units. Average rent amounts that exceed FMR for one-bedroom units range from 4.9 percent greater than FMR in Tompkins County, NY to 70 percent greater than FMR in Delaware County, NY. Average rent amounts that exceed FMR for two-bedroom units in the affected areas range from 1.1 percent greater than FMR in Washington County, NY to 62.2 percent greater than FMR in Essex County, NY. Because renting at any amount over FMR disqualifies a unit as an eligible option for ESG assistance, these consistently higher-than-FMR average rent amounts, coupled with a tight rental market, continue to hamper the network of providers in their ability to provide permanent housing solutions to households in crisis. In circumstances like these, the costs of the FMR-based restriction outweigh its benefits due to the challenge of finding units that meet FMR requirements.

Contact: Norm Suchar, Director, Office of Special Needs Assistance Programs, Office of Community Planning and Development, Department of Housing and Urban Development, 451 7th Street SW, Room 7262, Washington, DC 20410, telephone number (202) 708-4300.

II. Regulatory Waivers Granted by the Office of Housing—Federal Housing Administration (FHA)

For further information about the following regulatory waivers, please see the name of the contact person that immediately follows the description of the waiver granted.

• Regulation: Temporary, Partial Waiver of 24 CFR 200.926d(c)(4).

Project/Activity: Nationwide—New Construction—FHA SF Mortgage Insurance

Nature of Requirement: Single Family Minimum Property Standards Drainage and flood hazard exposure, which addresses new construction requirements for residential structures under HUD's mortgage insurance programs. The regulation requires that the lowest floor in newly constructed structures located within the one-percent-annual-chance (100-year) floodplain be built at least two feet above the Base Flood Elevation (BFE).

Granted by: Matthew Ammon, Performing the Delegable Duties of the Deputy Secretary.

Date Granted: February 21, 2025.

Reason Waived: To assist in ensuring the continued availability of FHA new construction financing options to expand the housing supply and deliver emergency housing price relief, a partial waiver of the requirement was granted.

Contact: Brian Faux, Director, Office of Single Family Program Development, Office of Housing, Department of Housing and Urban Development, 451 7th Street SW, Washington DC 20410, telephone (202) 402-5081, email Brian.Faux@hud.gov.

• Regulation: Temporary Waiver of 24 CFR 202.5(n)(3), Net Worth.

Project/Activity: Temporary Waiver of 24 CFR 202.5(n)(3) Net Worth, for a low income credit union (LICU) that would meet HUD's net worth requirement in 24 CFR 202.5(n)(2)(i) with the inclusion of any subordinate debt or grandfathered secondary capital that the National Credit Union Administration (NCUA) allows LICUs to treat as regulatory capital for capital adequacy and prompt corrective action purposes. For the duration of this waiver, a LICU must maintain its status as a “Well Capitalized Credit Union” as defined by NCUA's regulations.

Nature of Requirement: Temporary Waiver of the 24 CFR 202.5(n)(3) requirement that “Irrespective of size, each applicant and each approved lender or mortgagee, for participation solely under the FHA single family programs, shall have a net worth of not less than $1 million, plus an additional net worth of one percent of the total volume in excess of $25 million of FHA single family insured mortgages originated, underwritten, purchased, or serviced during the prior fiscal year, up to a maximum required net worth of $2.5 million. No less than 20 percent of the applicant's or approved lender or mortgagee's required net worth must be liquid assets consisting of cash or its equivalent acceptable to the Secretary.” This waiver is limited to Fiscal Years 2024 and 2025 and only applies to a credit union (LICU) that would meet HUD's net worth requirement in 24 CFR 202.5(n)(2)(i) with the inclusion of any subordinate debt or grandfathered secondary capital that the National Credit Union Administration (NCUA) allows LICUs to treat as regulatory capital for capital adequacy and prompt corrective action purposes. For the duration of this waiver, a LICU must maintain its status as a “Well Capitalized Credit Union” as defined by NCUA's regulations.

Granted by: Julia R. Gordon, Assistant Secretary for Housing—Federal Housing Commissioner.

Date Granted: January 15, 2025.

Reason Waived: 1. For years, LICUs have issued subordinated debt and grandfathered secondary capital as a method of funding expanded lending and financial services in the communities served by those credit unions and to serve as a further capital buffer to absorb any losses by those LICUs that would threaten their safety and soundness. The NCUA has strict requirements regarding the issuance of subordinated debt and grandfathered secondary capital.

2. Under U.S. Generally Accepted Accounting Principles (GAAP), subordinated debt and grandfathered secondary capital are treated as debt which lowers a LICU's adjusted net worth and can result in LICUs no longer being eligible to participate in FHA programs because of the net worth requirement set forth in 24 CFR 202.5(n)(2)(i) despite the fact that they may be classified as a “Well Capitalized Credit Union” by the NCUA.

3. Pursuant to 12 CFR 702.2, 702.407 and 702.414, the NCUA allows LICUs to treat the outstanding principal amount of subordinated debt and grandfathered secondary capital as regulatory capital provided that the obligations are uninsured and subordinate to all other claims against the credit union, including the claims of creditors, shareholders, and the National Credit Union Share Insurance Fund.

4. A LICU holding subordinated debt or grandfathered secondary capital that maintains its status as a “Well Capitalized Credit Union” does not pose an increased financial risk to the Mutual Mortgage Insurance Fund. Moreover, excluding these credit unions from participation in FHA programs could hinder HUD's ability to meet the housing needs of borrowers the single-family mortgage insurance program is designed to serve.

Contact: Glenn Dumont, Director, Office of Lender Activities and Program Compliance, Office of Housing, Department of Housing and Urban Development, 451 7th Street SW, Washington DC 20410, telephone (202) 402-3735, email Glenn.Dumont@hud.gov.

III. Regulatory Waivers Granted by the Office of Public and Indian Housing

For further information about the following regulatory waivers, please see the name of the contact person that immediately follows the description of the waiver granted.

• Regulation: 24 CFR 982.201(e) and 24 CFR 983.251(a)(2).

Nature of Requirement: 24 CFR 982.201(e) and 24 CFR 983.251(a)(2) pertain to the verification of date of birth, income, and disability status, as well as the eligibility determination, for the HCV and PBV programs.

Project/Activity: Housing Authority of the City of Los Angeles (HACLA).

Granted By: Richard J. Monocchio, Principal Deputy Assistant Secretary for Public and Indian Housing.

Date Granted: January 15, 2025.

Reason Waived: Based on the information submitted by HACLA with regard to the size of the homeless population, the emergency declarations related to homelessness in HACLA's jurisdiction, and HACLA's progress in housing persons experiencing homelessness, HUD has found good cause to approve the requested waivers.

Contact: Carmen Chow, Housing Program Specialist, Housing Voucher Management and Operations Division, Office of Public and Indian Housing, Department of Housing and Urban Development, 451 7th Street SW, Washington, DC 20410, telephone (312) 913-8523, email Carmen.Chow@hud.gov.

• Regulation: 24 CFR 982.634(a).

Nature of Requirement: 24 CFR 982.634(a): Except in the case of a family that qualifies as an elderly or disabled family (see paragraph (c) of this section), the family members described in paragraph (b) of this section shall not receive homeownership assistance for more than 15 years, if the initial mortgage incurred to finance purchase of the home has a term of 20 years or longer; or 10 years, in all other cases.

Project/Activity: Housing Authority of the City of Bristol (BHA).

Granted By: Dominique Blom, General Deputy Assistant Secretary, Office of Public and Indian Housing.

Date Granted: January 23, 2025.

Reason Waived: Based on the information that BHA has provided, including that without this waiver the Nadimi family would likely face foreclosure as a result of program termination, HUD has determined good cause and has granted the requested waiver to allow the Nadimi family to continue receiving HCV Homeownership assistance for a period of one year.

Contact: Claudia Brienza, Senior Housing Program Specialist, Housing Voucher Management and Operations Division, Office of Public and Indian Housing, Department of Housing and Urban Development, 451 7th Street SW, Washington, DC 20410, telephone (603) 666-0000, email Claudia.G.Brienza@hud.gov.

• Regulation: 24 CFR 5.216(e)(2)(ii), 24 CFR 5.218(c)(2).

Nature of Requirement: 24 CFR 5.216(e)(2)(ii) provides that when a participant requests to add a new household member who is under the age of 6 and has not been assigned a SSN, the participant shall be required to provide the complete and accurate SSN assigned to each new child and the documentation referred to in 24 CFR 5.216(g)(1) to verify the SSN for each new child within 90 calendar days of the child being added to the household. The processing entity shall grant an extension of one additional 90-day period if the processing entity, in their discretion, determines that the participant's failure to comply was due to circumstances that could not have reasonably been foreseen and were outside the control of the participant. 24 CFR 5.218(c)(2) provides that the processing entity must terminate the assistance or terminate the tenancy, or both of a participant and the participant's household, in accordance with the provisions governing the program involved, if the participant does not meet the applicable SSN disclosure, documentation, and verification requirements specified in 24 CFR 5.216. The processing entity may defer termination and provide the participant with an additional 90 calendar days to disclose an SSN, but only if the processing entity, in their discretion, determines that the failure to meet these requirements was due to circumstances that could not have reasonably been foreseen and were outside the control of the participant; and there is a reasonable likelihood that the participant will be able to disclose an SSN by the deadline.

Project/Activity: Housing Authority of the County of Alameda (HACA).

Granted By: Dominique Blom, General Deputy Assistant Secretary, Office of Public and Indian Housing.

Date Granted: January 24, 2025.

Reason Waived: Based on multiple factors and circumstances provided by HACA regarding Ms. Wells and her household, and as HUD finds these circumstances to be beyond Ms. Wells' control, and as it is evident that Ms. Wells and the Alameda County Social Services Agency appear to be committed to taking the necessary steps in order to obtain the SSNs, and as HACA has provided a detailed timeline and evidence that shows the reasonable likelihood that the participant will be able to disclose the social security numbers by May 31, 2025, HUD finds good cause and has granted the waivers.

Contact: Carmen Chow, Housing Program Specialist, Housing Voucher Management and Operations Division, Office of Public and Indian Housing, Department of Housing and Urban Development, 451 7th Street SW, Washington, DC 20410, telephone (312) 913-8523, email Carmen.Chow@hud.gov.

• Regulation: 24 CFR 983.301(f)(4).

Nature of Requirement: 24 CFR 983.301(f)(4) states that the Department may establish a process allowing public housing agencies (PHAs) to adopt project-specific utility allowances by notification in the Federal Register subject to public comment. Absent the establishment of such a project-specific utility allowance, the PHA's utility allowance schedule as determined under 24 CFR 982.517(b)(2)(i) or (ii) applies to both the tenant-based and PBV programs.

Project/Activity: County of Hawai'i Office of Housing and Community Development (OHCD).

Granted By: Dominique Blom, General Deputy Assistant Secretary, Office of Public and Indian Housing.

Date Granted: January 30, 2025.

Reason Waived: Based on the information OHCD provided, including that OHCD anticipates that the energy efficiency upgrades incorporated into the project will significantly lower utility consumption below the current estimates derived from the Housing Choice Voucher (HCV) Utility Allowance (UA), and that the existing area-wide UA is excessive considering these energy-efficient improvements, which would result in an inefficient use of HCV program funds, HUD finds good cause and has granted the waivers.

Contact: Jerone L. Anderson, Housing Programs Specialist, Housing Voucher Management and Operations Division, Office of Public and Indian Housing, Department of Housing and Urban Development, 451 7th Street SW, Washington, DC 20410, telephone (202) 402-6709, email Jerone.L.Anderson@hud.gov.

• Regulation: 24 CFR 982.201(e), 24 CFR 983.251(a)(2).

Nature of Requirement: 24 CFR 982.201(e) and 24 CFR 983.251(a)(2) pertain to the verification of date of birth, income, and disability status, as well as the eligibility determination, for the HCV and PBV programs.

Project/Activity: Michigan State Housing Development Authority (MSHDA).

Granted By: Benjamin Hobbs, Principal Deputy Assistant Secretary, Office of Public and Indian Housing.

Date Granted: February 20, 2024.

Reason Waived: Based on the information provided by MSHDA, including that 53 percent of all new admissions from July 2023 to July 2024 were experiencing homelessness, and that MSHDA will continue to experience delays in the lease-up process for such admissions, HUD finds good cause and has granted the waiver.

Contact: Carmen Chow, Housing Program Specialist, Housing Voucher Management and Operations Division, Office of Public and Indian Housing, Department of Housing and Urban Development, 451 7th Street SW, Washington, DC 20410, telephone (312) 913-8523, email Carmen.Chow@hud.gov.

Regulation: 24 CFR 983.301(f)(4).

Nature of Requirement: 24 CFR 983.301(f)(4) states that the Department may establish a process allowing public housing agencies (PHAs) to adopt project-specific utility allowances by notification in the Federal Register subject to public comment. Absent the establishment of such a project-specific utility allowance, the PHA's utility allowance schedule as determined under 24 CFR 982.517(b)(2)(i) or (ii) applies to both the tenant-based and PBV programs.

Project/Activity: Mid-Columbia Housing Authority (MCHA).

Granted By: Benjamin Hobbs, Principal Deputy Assistant Secretary, Office of Public and Indian Housing.

Date Granted: March 14, 2025.

Reason Waived: Based on the information provided by MCHA, including that due to energy efficient upgrades at the project, the anticipated tenant consumption is presumed to be lower than the estimated consumption calculated from the MCHA's community-wide Housing Choice Voucher (HCV) Utility Allowance and thereby promotes utility conservation, HUD finds this to be good cause and grants the waiver.

Contact: Jerone L. Anderson, Housing Programs Specialist, Housing Voucher Management and Operations Division, Office of Public and Indian Housing, Department of Housing and Urban Development, 451 7th Street SW, Washington, DC 20410, telephone (202) 402-6709, email Jerone.L.Anderson@hud.gov.

• Regulation: 24 CFR 982.201(e), 24 CFR 983.251(a)(2), 24 CFR 960.259(a), 24 CFR 960.259(a)(1), 24 CFR 960.259(a)(2), 24 CFR 960.259(c), and 24 CFR 960.259(c)(1).

Nature of Requirement: 24 CFR 982.201(e), 24 CFR 983.251(a)(2), 24 CFR 960.259(a), 24 CFR 960.259(a)(1), 24 CFR 960.259(a)(2), 24 CFR 960.259(c), and 24 CFR 960.259(c)(1) pertain to the verification of date of birth, income, and disability status, as well as the eligibility determination, for the HCV and PBV programs.

Project/Activity: Miami-Dade Public Housing and Community Development (MPHCD).

Granted By: Benjamin Hobbs, Principal Deputy Assistant Secretary, Office of Public and Indian Housing.

Date Granted: March 21, 2025.

Reason Waived: Based on the information provided by MPHCD; including that their 2024 Point in Time Count identified 1,033 people experiencing unsheltered homelessness in Miami-Dade County (MDC), where MPHCD operates; and that MDC is engaged in a HUD sponsored approach called the Housing Central Command (HCC); and that HCC uses a disaster response approach to rapidly house people directly from encampments; and that analysis of the first 7 households referred to the MPHCD in the HCC effort showed that these households required between 49 and 120 additional days to verify income, 17 to 54 additional days to verify date of birth, and 41 to 78 additional days to verify disability; and that the HCC approach is going to be expanded, which would result in an increased number of applicants with extended waiting times; HUD finds good cause and grants the requested waivers.

Contact: Susannah Roetlin, Senior Housing Program Specialist, Housing Vouchers Management and Operations Division, Office of Public and Indian Housing, Department of Housing and Urban Development, 451 7th Street SW, Washington, DC 20410, telephone (303) 672-5090, email Susannah.S.Roetlin@hud.gov.

• Regulation: 24 CFR 983.260 and 24 CFR 982.402(b).

Nature of Requirement: 24 CFR 983.260 provides in relevant part: “The public housing agency (PHA) subsidy standards determine the appropriate unit size for the family size and composition. . .” and that “if the PHA determines that a family is occupying a wrong-size unit, or a unit with accessibility features that the family does not require and the unit is needed by a family that requires the accessibility features (see 24 CFR 8.27), the PHA must: (i) Within 30 days from the PHA's determination, notify the family and the owner of this determination; and (ii) Within 60 days from the PHA's determination, offer the family continued housing assistance, pursuant to paragraph (b) of this section.” 24 CFR 982.402(b) provides in relevant part: “Determining family unit size. The following requirements apply when the PHA determines family unit size under the PHA subsidy standards: (1) The subsidy standards must provide for the smallest number of bedrooms needed to house a family without overcrowding.”

Project/Activity: Tuscaloosa Housing Authority (THA), Valor Grove.

Granted By: Benjamin Hobbs, Principal Deputy Assistant Secretary, Office of Public and Indian Housing.

Date Granted: March 25, 2025.

Reason Waived: To protect the families currently living in the THA units, and to ensure they are not displaced from their homes, and in consideration of the tight rental market in Tuscaloosa, and because the project is located on a Veterans' Affairs campus that provides services to the current families, HUD finds good cause to grant the requested waivers on a limited basis, subject to certain conditions.

Contact: Molly Allen, Senior Housing Program Specialist, Housing Voucher Management and Operations Division, Office of Public and Indian Housing, Department of Housing and Urban Development, 451 7th Street SW, Washington, DC 20410, telephone (678) 732-2093, email Molly.K.Allen@hud.gov.

• Regulation: 24 CFR 983.260 and 24 CFR 982.402(b).

Nature of Requirement: 24 CFR 983.260 provides in relevant part: “The public housing agency (PHA) subsidy standards determine the appropriate unit size for the family size and composition. . .” and that “if the PHA determines that a family is occupying a wrong-size unit, or a unit with accessibility features that the family does not require and the unit is needed by a family that requires the accessibility features (see 24 CFR 8.27), the PHA must: (i) Within 30 days from the PHA's determination, notify the family and the owner of this determination; and (ii) Within 60 days from the PHA's determination, offer the family continued housing assistance, pursuant to paragraph (b) of this section.” 24 CFR 982.402(b) provides in relevant part: “Determining family unit size. The following requirements apply when the PHA determines family unit size under the PHA subsidy standards: (1) The subsidy standards must provide for the smallest number of bedrooms needed to house a family without overcrowding.”

Project/Activity: Tuscaloosa Housing Authority (THA), Rosedale.

Granted By: Benjamin Hobbs, Principal Deputy Assistant Secretary, Office of Public and Indian Housing.

Date Granted: March 26, 2025.

Reason Waived: To protect the families currently living in the THA units, and to ensure they are not displaced from their homes, and in consideration of the tight rental market in Tuscaloosa, and because the project is located on a Veterans' Affairs campus that provides services to the current families, HUD finds good cause to grant the requested waivers on a limited basis, subject to certain conditions.

Contact: Ryan Jones, Director, Housing Voucher Management and Operations Division, Office of Public and Indian Housing, Department of Housing and Urban Development, 451 7th Street SW, Washington, DC 20410, telephone (202) 402-2677, email Ryan.E.Jones@hud.gov.

• Regulation: 24 CFR 982.161(a).

Nature of Requirement: 24 CFR 982.161(a): neither the PHA nor any of its contractors may enter into any contract or arrangement in connection with the HCV program in which any of certain classes of persons have any interest, direct or indirect, during tenure or for one year thereafter.

Project/Activity: Executive Office of Housing and Livable Communities (EOHLC).

Granted By: Benjamin Hobbs, Principal Deputy Assistant Secretary, Office of Public and Indian Housing.

Date Granted: March 26, 2025.

Reason Waived: To protect the families currently living in the EOHLC units, in consideration of the difficulty in leasing new units in Massachusetts, HUD finds good cause to grant the requested waiver on a limited basis, subject to certain conditions.

Contact: Melissa West, Senior Housing Program Specialist, Housing Voucher Management and Operations Division, Office of Public and Indian Housing, Department of Housing and Urban Development, 451 7th Street SW, Washington, DC 20410, telephone (303) 672-5352, email Melissa.West@hud.gov.

Extended Streamlined Waivers

• Regulation: 24 CFR 982.201(e) and 24 CFR 960.259.

Project/Activity: Regulatory Waivers and Administrative Flexibilities During a Presidentially Declared Disaster, for Public Housing Agencies During CY 2024 and CY 2025 FR-6438-N-01 (February 5, 2024).

Nature of Requirement: 24 CFR 982.201(e) and 24 CFR § 960.259 pertain to verifying a family member's disability status and/or date of birth at the time of admission; and the impact that determination has on the family's eligible expenses and deductions. The PHA must receive information verifying that an applicant is eligible within the period of 60 days before the PHA issues a voucher to the applicant. The family must supply any information that the PHA or HUD determines is necessary in administration of the public housing program, including submission of required evidence of citizenship or eligible immigration status. Also, the PHA must obtain and document in the family file third-party verification of reported family annual income; the value of assets; expenses related to deductions from annual income; and other facts that affect the determination of adjusted income or income-based rent or must document in the file why third-party verification was not available.

Reason Waived: Disaster impacted the ability of families to provide the necessary documentation verifying eligibility, thus delaying the ability of the PHA to provide assistance to the family. This waiver was provided to allow PHAs to accept a self-certification from the applicable family, if the family is unable to provide third-party verification of date of birth and/or disability status, because of loss or lack of documents. This allows families to be housed more quickly in the aftermath of a disaster when the need for and access to housing is hampered by the disaster.

Granted by: Heidi Frechette, General Deputy Assistant Secretary for Public and Indian Housing.

Contact: Tesia Anyanaso, Office of Field Operations/Coordination and Compliance Division, Office of Public and Indian Housing, 451 7th St SW, Suite 3180, Washington, DC 20410, telephone (202) 402-7026 or email to PIH_Disaster_Relief@hud.gov.

Code | PHAs | Waiver signed
NC007 | Asheville Housing Authority | 3/19/2025
CA079 | City of Pasadena | 3/14/2025

• Regulation: 24 CFR 982.201(e), 24 CFR 960.259(a)(1), 24 CFR 960.259(a)(2), and 24 CFR 960.259(c).

Project/Activity: Regulatory Waivers and Administrative Flexibilities During a Presidentially Declared Disaster, for Public Housing Agencies During CY 2024 and CY 2025 FR-6438-N-01 (February 5, 2024).

Nature of Requirement: 24 CFR 982.201(e), 24 CFR 960.259(a)(1), 24 CFR 960.259(a)(2), and 24 CFR 960.259(c) pertain to a PHA's requirement to verify a family's income eligibility within 60 days prior to voucher issuance for the tenant-based voucher program and prior to admission for the project-based voucher and public housing programs.

Reason Waived: PHAs are required to verify a family's income eligibility within 60 days prior to voucher issuance. Disaster impacted the ability of families to provide the necessary documentation verifying eligibility, thus delaying the ability of the PHA to provide assistance to the family. This waiver was provided to allow PHAs to accept a self-certification from the applicable family, if the family is unable to provide third-party verification of date of birth and/or disability status, because of loss or lack of documents. This allows families to be housed more quickly in the aftermath of a disaster when the need for and access to housing is hampered by the disaster.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025
CA079 | City of Pasadena | 3/14/2025

• Regulation: 24 CFR 982.206(a)(2) and 24 CFR 960.206.

Project/Activity: Regulatory Waivers and Administrative Flexibilities During a Presidentially Declared Disaster, for Public Housing Agencies During CY 2024 and CY 2025 FR-6438-N-01 (February 5, 2024).

Nature of Requirement: 24 CFR 982.206(a)(2) and 24 CFR 960.206 pertain to a PHA's requirement to give the public notice by publication in a local newspaper of general circulation, and also by minority media and other suitable means. The notice must comply with HUD fair housing requirements. The PHA may adopt a system of local preferences for selection of families admitted to the PHA's public housing program. The PHA system of selection preferences must be based on local housing needs and priorities as determined by the PHA. In determining such needs and priorities, the PHA shall use generally accepted data sources. Such sources include public comment on the PHA plan and on the consolidated plan for the relevant jurisdiction.

Reason Waived: The impact of a disaster necessitated a change in the status of the PHA's waiting list to meet the emergency needs of the community. Typical means of communicating such changes may not be available or may unnecessarily delay the PHA's actions and ability to assist families impacted by the disaster. This waiver allows for streamlined public notification.

Granted by: Dominique Blom, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Expedited_Waivers@hud.gov.

Code | PHAs | Waiver signed
CA002 | LACDA | 2/14/2025

• Regulation: Notice PIH 2011-65: Timely Reporting Requirements of the Family Report (Form HUD-50058).

Project/Activity: Regulatory Waivers and Administrative Flexibilities During a Presidentially Declared Disaster, for Public Housing Agencies During CY 2024 and CY 2025 FR-6438-N-01 (February 5, 2024).

Nature of Requirement: PHAs must submit family reports no later than 60 calendar days from the effective date of any action recorded on line 2b of Form HUD-50058 or Form HUD-50058 MTW).

Reason Waived: Disaster impacted the ability of the PHA to timely submit family reports as a result of destruction to PHA technology infrastructure, the impact of disaster on personnel, or the prioritization by the PHA staff on disaster response.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025
CA079 | City of Pasadena | 3/14/2025
NC080 | Marshall Housing Authority | 2/7/2025

• Regulation: 24 CFR 982.516(a)(2), 24 CFR 982.516(3), and 24 CFR 960.259(c).

Project/Activity: Regulatory Waivers and Administrative Flexibilities During a Presidentially Declared Disaster, for Public Housing Agencies During CY 2024 and CY 2025 FR-6438-N-01 (February 5, 2024).

Nature of Requirement: 24 CFR 982.516(a)(2), 24 CFR 982.516(3), and 24 CFR 960.259(c) pertain to a PHA's requirement to, in the tenant file, obtain and document third-party verification of specific factors, or must document in the tenant file that third party verification was not available.

Reason Waived: Disaster impacted the ability of the PHA to obtain and document third-party verification. Some places of business may not be able to provide the verification as a result of the disaster. The PHA may also be prioritizing disaster response actions and not have the capacity to go through the verification hierarchy.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025
CA079 | City of Pasadena | 3/14/2025
NC080 | Marshall Housing Authority | 2/7/2025

• Regulation: 24 CFR 5.703(d)(5).

Project/Activity: Regulatory Waivers and Administrative Flexibilities During a Presidentially Declared Disaster, for Public Housing Agencies During CY 2024 and CY 2025 FR-6438-N-01 (February 5, 2024).

Nature of Requirement: 24 CFR 5.703(d)(5): For units assisted under the HCV or PBV program, the unit must have at least one bedroom or living/sleeping room for each two persons.

Reason Waived: Disaster impacted the ability of families to provide the necessary documentation verifying eligibility, thus delaying the ability of the PHA to provide assistance to the family.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025
CA079 | City of Pasadena | 3/14/2025
NC080 | Marshall Housing Authority | 2/7/2025

• Regulation: 24 CFR 982.503(c).

Project/Activity: Regulatory Waivers and Administrative Flexibilities During a Presidentially Declared Disaster, for Public Housing Agencies During CY 2024 and CY 2025 FR-6438-N-01 (February 5, 2024).

Nature of Requirement: 24 CFR 982.503(c): To substantiate the need for an exception payment standard usually a PHA must provide data about the local market, as well as other program related information. However, in a PDD the typical data sources fail to capture conditions on the ground. In these cases, a PHA must provide available data on pre-disaster HCV time to lease and success rates, its pre-disaster payment standards, the exception payment standards amount being requested, and the need for the requested amounts.

Reason Waived: The PHA was able to provide evidence that indicated a need for an exception payment standard resulting from the negative impact of the disaster on the local housing market.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority (DENIED) | 3/19/2025
CA079 | City of Pasadena | 3/14/2025

• Regulation: 24 CFR 982.54(d)(2).

Project/Activity: Regulatory Waivers and Administrative Flexibilities During a Presidentially Declared Disaster, for Public Housing Agencies During CY 2024 and CY 2025 FR-6438-N-01 (February 5, 2024).

Nature of Requirement: 24 CFR § 982.54(d)(2): Issuing or denying vouchers, including PHA policy governing the voucher term and any extensions of the voucher term. If the PHA decides to allow extensions of the voucher term, the PHA Administrative Plan must describe how the PHA determines whether to grant extensions, and how the PHA determines the length of any extension.

Reason Waived: PHAs have discretion to establish the term of the voucher, beyond 60 days, and its extension policies. The disaster impacts the ability of a family searching with a voucher to find suitable housing. necessitating an immediate change to the PHA's policies. Failure to expeditiously update the PHA's policy may result in the voucher being cancelled by the PHA.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
CA111 | Santa Monica Housing Authority | 2/24/2025
CA079 | City of Pasadena | 3/14/2025

• Regulation: 24 CFR 982.305(c).

Project/Activity: Regulatory Waivers and Administrative Flexibilities During a Presidentially Declared Disaster, for Public Housing Agencies During CY 2024 and CY 2025 FR-6438-N-01 (February 5, 2024).

Nature of Requirement: When a PDD impacts an owner's ability to collect the documents, the PHA must use best efforts to execute the HAP contract before the beginning of the lease term. The HAP contract must be executed no later than 60 calendar days from the beginning of the lease term. A HAP contract executed after the 60-day period is void.

Reason Waived: The disaster impacted the ability to execute HAP contract between the PHA and owner. Without this waiver, a delayed HAP contract results in the delay of payment to the owner, making it harder to attract owners to the HCV program. A failure to execute the HAP contract timely voids the HAP contract, putting the housing status of the family at risk.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
CA079 | City of Pasadena | 3/14/2025

• Regulation: 24 CFR 982.633(a).

Project/Activity: Regulatory Waivers and Administrative Flexibilities During a Presidentially Declared Disaster, for Public Housing Agencies During CY 2024 and CY 2025 FR-6438-N-01 (February 5, 2024).

Nature of Requirement: 24 CFR 982.633(a): Homeownership assistance may only be paid while the family is residing in the home. If the family moves out of the home, the PHA may not continue homeownership assistance after the month when the family moves out. The family or lender is not required to refund to the PHA the homeownership assistance for the month when the family moves out.

Reason Waived: This waiver will allow the PHA to continue paying the housing assistance payment in cases where the family is unable to occupy their home due to damage caused by the disaster. This allows families to comply with the mortgage requirements to keep their home while making the necessary repairs to reoccupy the home.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025

• Regulation: 24 CFR 982.54(a).

Project/Activity: Regulatory Waivers and Administrative Flexibilities During a Presidentially Declared Disaster, for Public Housing Agencies During CY 2024 and CY 2025 FR-6438-N-01 (February 5, 2024).

Nature of Requirement: 24 CFR 982.54(a): The PHA must adopt a written Administrative Plan that establishes local policies for administration of the program in accordance with HUD requirements. The Administrative Plan and any revisions of the plan must be formally adopted by the PHA Board of Commissioners or other authorized PHA officials. The Administrative Plan states PHA policy on matters for which the PHA has discretion to establish local policies.

Reason Waived: The PHA has the option to adopt certain discretionary policies in the administration of its Housing Choice Voucher program. This waiver reduces the administrative burden for PHAs to implement temporary changes in policy necessitated by disaster to provide relief to families impacted.

Granted by: Richard Monocchio, Principal Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025
CA079 | City of Pasadena | 3/14/2025
NC080 | Marshall Housing Authority | 2/7/2025
CA111 | Santa Monica Housing Authority | 2/24/2025
CA002 | LACDA | 2/14/2025

• Regulation: 24 CFR 982.405(b).

Project/Activity: Regulatory Waivers and Administrative Flexibilities During a Presidentially Declared Disaster, for Public Housing Agencies During CY 2024 and CY 2025 FR-6438-N-01 (February 5, 2024).

Nature of Requirement: 24 CFR 982.405(b): Periodic Inspections. The PHA must inspect the unit at least biennially during assisted occupancy to ensure that the unit continues to meet the HQS, except that a small rural PHA, as defined in § 902.101 of this title, must inspect a unit once every three years during assisted occupancy to ensure that the unit continues to meet the HQS.

Reason Waived: This waiver will allow the PHA to prioritize recovery efforts and focus on other inspections necessitated by the disaster.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
CA079 | City of Pasadena | 3/14/2025

• Regulation: 24 CFR 982.312.

Project/Activity: Regulatory Waivers and Administrative Flexibilities During a Presidentially Declared Disaster, for Public Housing Agencies During CY 2024 and CY 2025 FR-6438-N-01 (February 5, 2024).

Nature of Requirement: This regulation requires that a family may not be absent from a unit for a period of more than 180 consecutive calendar days for any reason. Under this document, PDD PHAs may seek waiver approval to extend the period of absence from 180 days to 240 days and maintain documentation in the tenant file indicating unit is under a PDD which resulted in extended absence.

Reason Waived: This waiver will allow PHAs to provide relief to displaced families as they search for housing in a competitive rental market with ongoing fluctuations and disruptions.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
CA111 | Santa Monica Housing Authority | 2/24/2025
CA079 | City of Pasadena | 3/14/2025
NC080 | Marshall Housing Authority | 2/7/2025

• Regulation: 24 CFR 982.455, 24 CFR 983.258, and 24 CFR 983.211(a).

Project/Activity: Regulatory Waivers and Administrative Flexibilities During a Presidentially Declared Disaster, for Public Housing Agencies During CY 2024 and CY 2025 FR-6438-N-01 (February 5, 2024).

Nature of Requirement: 24 CFR 982.455: The HAP contract terminates automatically 180 calendar days after the last housing assistance payment to the owner. 24 CFR 983.258: Housing assistance payments shall continue until the tenant rent equals the rent to owner. The cessation of housing assistance payments at such point will not affect the family's other rights under its lease, nor will such cessation preclude the resumption of payments as a result of later changes in income, rents, or other relevant circumstances if such changes occur within 180 days following the date of the last housing assistance payment by the PHA. After the 180-day period, the unit shall be removed from the HAP contract pursuant to § 983.211. 24 CFR 983.211(a): Removal of a unit based on a family's increased income. Units occupied by families whose income has increased during their tenancy resulting in the total tenant payment equaling the gross rent shall be removed from the HAP contract 180 days following the last housing assistance payment on behalf of the family.

Reason Waived: This waiver will reduce the administrative burden for PHAs and allow PHAs to provide relief to families by ensuring they do not lose their housing assistance if they experience a loss of income during the extending period.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
CA079 | City of Pasadena | 3/14/2025

• Regulation: Notice PIH 2018-1, Section 9: Guidance on Small Area Market Rent (SAFMR) and Payment Standard.

Project/Activity: Regulatory Waivers and Administrative Flexibilities During a Presidentially Declared Disaster, for Public Housing Agencies During CY 2024 and CY 2025 FR-6438-N-01 (February 5, 2024).

Nature of Requirement: PHAs may request a suspension or temporary exemption from using SAFMRs. A PDD PHA can request a suspension or temporary exemption from the requirement to use SAFMRs, and HUD can provide such an extension, through this waiver process rather than following the requirements and process outlined in Notice PIH 2018-1, which would normally be required.

Reason Waived: This waiver is to temporarily exempt the PHA from implementing SAFMRs will allow the PHA to prioritize recovery efforts and allow for the housing market to stabilize before the PHAs can adequately assess and apply SAFMRs when fluctuating rental prices and lack of supply stabilized.

Granted by: Dominique Blom, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
GA001 | Augusta Housing Authority | 1/8/2025

• Regulation: 24 CFR 985.

Project/Activity: Regulatory Waivers and Administrative Flexibilities During a Presidentially Declared Disaster, for Public Housing Agencies During CY 2024 and CY 2025 FR-6438-N-01 (February 5, 2024).

Nature of Requirement: 24 CFR 985 defines and outlines regulations the Section 8 Management Assessment Program (SEMAP) and small rural PHA assessments.

Reason Waived: For a PDD PHA that has a SEMAP score due during calendar year (CY) 2024 or CY2025, HUD may consider a request to carry forward the last SEMAP score received by the PHA and forego HUD performing an assessment for CY2024 or CY2025, as applicable. This waiver will reduce the administrative burden for PHAs experiencing a disruption of the PHA's administrative operations caused by the disaster and the need to prioritize disaster relief and recovery efforts.

Granted by: Dominique Blom, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
RQ059 | Municipality of Aibonito | 2/13/2025

• Regulation: 24 CFR 5.801(c) and 24 CFR 5.801(d)(1).

Project/Activity: Regulatory Waivers and Administrative Flexibilities During a Presidentially Declared Disaster, for Public Housing Agencies During CY 2024 and CY 2025 FR-6438-N-01 (February 5, 2024).

Nature of Requirement: These requirements pertain to the filing of financial reports for entities matching several different parameters and the reporting compliance dates for said entities.

Reason Waived: REAC grants an extension for the submission of financial audits for entities in presidentially declared disaster areas to allow affected entities to focus on disaster response and recovery efforts while prioritizing public safety and effective resource management. Financial audits will need to be submitted once conditions stabilize to maintain compliance and accountability.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025

• Regulation: 24 CFR 990.145(b)(2).

Project/Activity: Regulatory Waivers and Administrative Flexibilities During a Presidentially Declared Disaster, for Public Housing Agencies During CY 2024 and CY 2025 FR-6438-N-01 (February 5, 2024).

Nature of Requirement: 24 CFR 990.145(b)(2): Disasters. Units that are vacant due to a federally declared, state-declared, or other declared disaster.

Reason Waived: Disaster affected the ability of families to provide the necessary documentation verifying eligibility, thus delaying the ability of the PHA to provide assistance to the family. Notice FR-6438-N-01 allows administrative flexibilities during presidentially declared disasters using a streamlined process. This allows families to be housed more quickly in the aftermath of a disaster when the need for and access to housing is hampered by the disaster.

Granted by: Heidi Frechette, General Deputy Assistant Secretary for Public and Indian Housing.

Contact: Tesia Anyanaso, Office of Field Operations/Coordination and Compliance Division, Office of Public and Indian Housing, 451 7th Street SW, Suite 3180, Washington, DC 20410, telephone (202) 402-7026 or email to PIH_Disaster_Relief@hud.gov.

Code | PHAs | Waiver signed
NC007 | Asheville Housing Authority | 3/19/2025

[FR Doc. 2025-15299 Filed 8-11-25; 8:45 am]

BILLING CODE 4210-67-P